SECURITIES AND EXCHANGE COMMISSION

17 CFR Parts 200, 227, 232, 239, 240, 249, 269, and 274

[Release Nos. 33-9974A; 34-76324A; File No. S7-09-13]

RIN 3235-AL37

Crowdfunding; Correction

AGENCY: Securities and Exchange Commission.

ACTION: Final rule; correction.

SUMMARY: The Securities and Exchange Commission published in the Federal Register of November 16, 2015, the final rule, Regulation Crowdfunding, under the Securities Act of 1933 and the Securities Exchange Act of 1934 to implement the requirements of Title III of the Jumpstart Our Business Startups Act of 2012. The effective date for subpart U, which adds Form Funding Portal, was inadvertently omitted in the DATES section of the Federal Register. This correction adds the effective date for subpart U, Form Funding Portal.

DATES: Effective December 22, 2015.

FOR FURTHER INFORMATION CONTACT: Timothy White or Erin Galipeau, Division of Trading and Markets, at (202) 551-5550, Securities and Exchange Commission, 100 F Street NE., Washington, DC 20549.

SUPPLEMENTARY INFORMATION:

Correction

In rule FR Doc. 2015-28220 published on November 16, 2015, (80 FR 71388) make the following correction:

On page 71388, in the first column, the DATES section is revised to read as follows:

“DATES: The final rules and forms are effective May 16, 2016, except for instruction 3 adding part 227, instruction 12 adding subpart U to part 249, and instruction 15 amending Form ID, which are effective January 29, 2016.”

Dated: December 17, 2015.
Brent J. Fields,
Secretary.

[FR Doc. 2015-32106 Filed 12-21-15; 8:45 am]

BILLING CODE 8011-01-P